DEPARTMENT OF TRANSPORTATION

Federal Aviation Administration

14 CFR Part 39

[Docket No. FAA-2005-21054; Directorate Identifier 2005-NM-054-AD; Amendment 39-14205; AD 2005-15-16]

RIN 2120-AA64

Airworthiness Directives; AvCraft Dornier Model 328-300 Airplanes

AGENCY: Federal Aviation Administration (FAA), Department of Transportation (DOT).

ACTION: Final rule.

SUMMARY: The FAA is adopting a new airworthiness directive (AD) for certain AvCraft Dornier Model 328-300 airplanes. This AD requires modifying the electrical wiring of the fuel pumps; installing insulation at the flow control and shut-off valves, and other components of the environmental control system; installing markings at fuel wiring harnesses; replacing the wiring harness of the auxiliary fuel system with a new wiring harness; and installing insulated couplings in the fuel system; as applicable. This AD also requires revising the Airworthiness Limitations section of the Instructions for Continued Airworthiness to incorporate new inspections of the fuel tank system. This AD is prompted by the results of fuel system reviews conducted by the airplane manufacturer. We are issuing this AD to reduce the potential of ignition sources inside fuel tanks, which, in combination with flammable fuel vapors, could result in fuel tank explosions and consequent loss of the airplane.

DATES: This AD becomes effective September 6, 2005.

The incorporation by reference of certain publications listed in the AD is approved by the Director of the Federal Register as of September 6, 2005.

ADDRESSES: For service information identified in this AD, contact AvCraft Aerospace GmbH, P.O. Box 1103, D-82230 Wessling, Germany.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-21054; the directorate identifier for this docket is 2005-NM-054-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The FAA proposed to amend 14 CFR part 39 with an AD for certain AvCraft Dornier Model 328-300 airplanes. That action, published in the Federal Register on April 26, 2005 (70 FR 21346), proposed to require modifying the electrical wiring of the fuel pumps; installing insulation at the flow control and shut-off valves, and other components of the environmental control system; installing markings at fuel wiring harnesses; replacing the wiring harness of the auxiliary fuel system with a new wiring harness; and installing insulated couplings in the fuel system; as applicable. That action also proposed to require revising the Airworthiness Limitations section of the Instructions for Continued Airworthiness to incorporate new inspections of the fuel tank system.

Comments

We provided the public the opportunity to participate in the development of this AD. We have considered the single comment that was submitted on the proposed AD.

Provide for Incorporation of Temporary Revision By Normal Revision Process

The commenter requests that we revise paragraph (h) of the proposed AD to provide for incorporation of AvCraft Temporary Revision (TR) ALD-028, dated October 15, 2003, into the body of the Airworthiness Limitations section of the Instructions for Continued Airworthiness document through the normal revision process. The commenter notes that the proposed AD, as written, would require the TR to remain in the Airworthiness Limitations section forever. However, once the information in the TR is incorporated into the Airworthiness Limitations section through the normal revision process, the TR document will be unnecessary.

We agree. We have revised paragraph (h) of this AD accordingly, and added a new note, Note 1, to clarify the revised language in paragraph (h). These changes will allow the TR to be removed from the Airworthiness Limitations once the information in the TR has been incorporated into the Airworthiness Limitations by the normal revision process.

Explanation of Change to Applicability

We have revised the applicability of this AD to identify model designations as published in the most recent type certificate data sheet for the affected model.

Explanation of Changes to Tables 1 and 2 of Proposed AD

Tables 1 and 2 of the proposed AD incorrectly referred to paragraphs that do not exist in the referenced service bulletins. We have revised Tables 1 and 2 of this AD to refer to the correct paragraphs in the referenced service bulletins.

Conclusion

We have carefully reviewed the available data, including the comment that has been submitted, and determined that air safety and the public interest require adopting the AD with the changes described previously. We have determined that these changes will neither increase the economic burden on any operator nor increase the scope of the AD.

Costs of Compliance

The following table provides the estimated costs for U.S. operators to comply with this AD. The average labor rate is $65 per hour.

Estimated Costs
For airplanes— | Work hours | Parts | Number of U.S.-registered airplanes | Cost per airplane | Fleet cost
With option 033F003 installed | 95 | $9,402 | Currently, none of these affected airplanes are on the U.S. Register | $15,577 if an affected airplane is imported and placed on the U.S. Register in the future | None.
Without option 033F003 installed | 70 | 14,118 | 47 | 18,668 | $877,396.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-15-16 Avcraft Aerospace GmbH (Formerly Fairchild Dornier GmbH): Amendment 39-14205. Docket No. FAA-2005-21054; Directorate Identifier 2005-NM-054-AD.

Effective Date

(a) This AD becomes effective September 6, 2005.

Affected ADs

(b) None.

Applicability

(c) This AD applies to AvCraft Dornier Model 328-300 airplanes, certificated in any category, serial numbers 3105 through 3223 inclusive.

Unsafe Condition

(d) This AD was prompted by the results of fuel system reviews conducted by the airplane manufacturer. We are issuing this AD to reduce the potential of ignition sources inside fuel tanks, which, in combination with flammable fuel vapors, could result in fuel tank explosions and consequent loss of the airplane.

Compliance

(e) You are responsible for having the actions required by this AD performed within the compliance times specified, unless the actions have already been done.

Without Option 033F003 Installed: Modification and Installations

(f) For airplanes without option 033F003 installed: Within 12 months after the effective date of this AD, do the actions in Table 1 of this AD in accordance with the Accomplishment Instructions of AvCraft Service Bulletin SB-328J-00-197, dated August 23, 2004.

Table 1.—Requirements for Airplanes Without Option 033F003 Installed
Do the following actions— | By accomplishing all the actions specified in—
(1) Modify the electrical wiring of the left-hand and right-hand fuel pumps | Paragraph 1.B(1) of the service bulletin.
(2) Install insulation at the left-hand and right-hand flow control and shut-off valves and other components of the environmental control system | Paragraph 1.B(2) of the service bulletin.
(3) Install markings at fuel wiring harnesses | Paragraph 1.B(3) of the service bulletin.

With Option 033F003 Installed: Modification, Replacement, and Installation

(g) For airplanes with option 033F003 installed: Within 12 months after the effective date of this AD, do the actions in Table 2 of this AD in accordance with the Accomplishment Instructions of AvCraft Service Bulletin SB-328J-00-198, dated August 23, 2004.

Table 2.—Requirements for Airplanes With Option 033F003 Installed
Do the following actions— | By accomplishing all the actions specified in—
(1) Modify the electrical wiring of the left-hand and right-hand fuel pumps | Paragraph 2.B(1) of the service bulletin.
(2) Replace the wiring harness of the auxiliary fuel system with a new wiring harness | Paragraph 2.B(2) of the service bulletin.
(3) Install markings at fuel wiring harnesses | Paragraph 2.B(3) of the service bulletin.
(4) Install insulated couplings in the fuel system | Paragraph 2.B(5) of the service bulletin.

Revision to Airworthiness Limitations

(h) Within 12 months after the effective date of this AD, revise the Airworthiness Limitations section of the Instructions for Continued Airworthiness to incorporate the information in AvCraft Temporary Revision (TR) ALD-028, dated October 15, 2003, into the AvCraft 328JET Airworthiness Limitations Document. Thereafter, except as provided in paragraph (i) of this AD, no alternative inspection intervals may be approved for this fuel tank system.

Note 1: This may be done by inserting a copy of AvCraft TR ALD-028, dated October 15, 2003, in the AvCraft 328JET Airworthiness Limitations Document. When this TR has been included in general revisions of the AvCraft 328JET Airworthiness Limitations Document, the temporary revision no longer needs to be inserted into the revised Airworthiness Limitations document.

Alternative Methods of Compliance (AMOCs)

(i) The Manager, International Branch, ANM-116, Transport Airplane Directorate, FAA, has the authority to approve AMOCs for this AD, if requested in accordance with the procedures found in 14 CFR 39.19.

Related Information

(j) German airworthiness directives D-2005-002 (for airplanes with option 033F003 installed) and D-2005-063 (for airplanes without option 033F003 installed), both dated January 26, 2005, also address the subject of this AD.

Material Incorporated by Reference

(k) You must use the applicable documents in Table 3 of this AD to perform the actions that are required by this AD, unless the AD specifies otherwise. (Only the odd-numbered pages of AvCraft Service Bulletins SB-328J-00-197 and SB-328J-00-198 contain the issue date of the documents.) The Director of the Federal Register approves the incorporation by reference of these documents in accordance with 5 U.S.C. 552(a) and 1 CFR part 51. To get copies of the service information, contact AvCraft Aerospace GmbH, P.O. Box 1103, D-82230 Wessling, Germany. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal-register/cfr/ibr-locations.html.

Table 3.—Material Incorporated by Reference
Service information | Date
AvCraft Service Bulletin SB-328J-00-197, including Price Information Sheet | August 23, 2004.
AvCraft Service Bulletin SB-328J-00-198, including Price Information Sheet | August 23, 2004.
AvCraft Temporary Revision ALD-028 to the AvCraft 328JET Airworthiness Limitations Document | October 15, 2003.

Issued in Renton, Washington, on July 20, 2005.
Kevin M. Mullin,
Acting Manager, Transport Airplane Directorate, Aircraft Certification Service.

[FR Doc. 05-14789 Filed 7-29-05; 8:45 am]

BILLING CODE 4910-13-P